DEPARTMENT OF LABOR

Bureau of Labor Statistics

Business Research Advisory Council; Notice of Meetings and Agenda

The regular Fall meetings of the Business Research Advisory Council and its committees will be held on October 19 and 20, 2005. All of the meetings will be held in the Conference Center of the Postal Square Building, 2 Massachusetts Avenue, NE., Washington, DC.

The Business Research Advisory Council and its committees advise the Bureau of Labor Statistics with respect to technical matters associated with the Bureau's program. Membership consists of technical officials from American business and industry.

The schedule and agenda for the meetings are as follows:

Wednesday—October 19 (Conference Rooms 2 & 3)

10-11:30 a.m.-Committee on Productivity and Foreign Labor Statistics

1. Technical revisions to the major sector productivity and costs measures

2. Update on multifactor productivity releases

3. Industry productivity trends

4. Study of international hours of work data

5. NAICS conversion of international comparisons of hourly compensation costs in manufacturing component industries

6. Discussion of agenda items for the Spring 2006 meeting

1-2:30 p.m.—Committee on Price Indexes

1. Treatment of Housing in the CPI

2. Status update on the PPI service sector and non-residential construction initiatives

3. Discussion of agenda items for the Spring 2006 meeting

3-4:30 p.m.—Committee on Compensation and Working Conditions

1. New Sample of Areas Selected for the National Compensation Survey (NCS)

2. New NCS product: Interarea pay comparisons

3. Match bias in Employment Cost Index and Employer Cost for Employee Compensation (ECI/ECEC) imputation

4. Update on ECI changes and development

5. Additional items as raised by the members

6. Discussion of agenda items for the Spring 2006 meeting

Thursday—October 20 (Conference Rooms 2 & 3)

8:30-10 a.m.—Committee on Employment and Unemployment Statistics

1. Status of BLS proposal for revisions to the Current Employment Statistics (CES) survey, including dropping the collection and publication of women workers data

2. Pilot CES supplemental survey on temporary help and leasing. We are looking for feedback on our draft questionnaire and for topic suggestions for other CES supplements.

3. The relationship between firm growth and worker flows: research using Job Openings and Labor Turnover Survey (JOLTS) microdata

4. Discussion of agenda items for the Spring 2006 meeting

10:30 a.m.—12 p.m.-Council Meeting

1. Council Chairperson's address

2. Commissioner's address

1:30—3 p.m.-Committee on Occupational Safety and Health Statistics

1. Results from the 2004 Census of Fatal Occupational Injuries

2. Update on special survey of employer Workplace Violence Prevention policies

3. Research on injury, illness, and fatality rates

4. Internet collection—2005 experience and plans for 2006

5. Research into injury, illness, and fatality data for special populations

6. Updates—schedule of next news releases; budget status

7. Discussion of agenda items for the Spring 2006 meeting

The meetings are open to the public. Persons wishing to attend these meetings as observers should contact Tracy A. Jack, Liaison, Business Research Advisory Council, at 202-691-5869.

Signed at Washington, DC the 21st day of September 2005.
Kathleen P. Utgoff,
Commissioner.

[FR Doc. 05-19250 Filed 9-26-05; 8:45 am]

BILLING CODE 4510-24-P